DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[4/11/2017 through 4/25/2017]
Firm name | Firm address | Date accepted for investigation | Product(s)
Ford Tool and Machining, LLC d/b/a Ford Tool and Machining, Inc | 2205 Range Road, Loves Park, IL 61111 | 4/12/2017 | The firm manufactures steel forged machine tools primarily for the automotive fastener market.
Gear Motions, Inc | 1750 Milton Avenue, Syracuse, NY 13209 | 4/13/2017 | The firm manufactures a wide range of gear types and provides engineering services.
Vertical Solutions, Inc. d/b/a VSI Parylene | 325 Interlocken Parkway, Broomfield, CO 80021 | 4/13/2017 | The firm manufactures parylene used primarily in the semiconductor industry.
Aurora Circuits, Inc | 2250 White Oak Circle, Aurora, IL 60502 | 4/19/2017 | The firm manufactures printed circuit boards including single sided, double sided and multi-layer which are made of copper, aluminum, fiberglass and other substrates.
Loudspeaker Components, LLC | 7596 U.S. Highway 61 South, Lancaster, WI 53813 | 4/12/2017 | The firm manufactures speakers and speaker components including speaker cone assemblies (diaphragm), paperboard gasket, dust caps and spiders using manufacturing technologies such as paper making, plastic thermoforming, plastic injection molding, foam cutting and cloth treating sold in the OEM Automotive, aftermarket automotive, professional, multi-media, Hi-Fi, home alarm and musical instrument markets.
Michiana Global Mold, Inc | 1702 East 7th Street, Mishawaka, IN 46544 | 4/20/2017 | The firm manufactures plastic and rubber injection molds.
Metlcast Industries, LLC | 401 East Avenue B, Salina, KS 67402 | 4/24/2017 | The firm manufactures ductile and gray iron and other alloys.
The Industrial Controls Company, Inc | N56 W24842 Corporate Circle, Sussex, WI 53089 | 4/25/2017 | The firm manufactures electrical control systems including custom control panels, production panels and hazardous location panels using electrical components such as wire, wire harnesses, connectors, controllers, relays, switches and indicators which are housed in cabinets, enclosures and brackets.
Sunflower Electrical Systems, LLC | 8302 Hedge Lane Terrace, Suite H, Shawnee, KS 66227 | 4/25/2017 | The firm manufactures custom electromechanical wire assemblies and harnesses.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Miriam Kearse,
Lead Program Analyst.

[FR Doc. 2017-09589 Filed 5-10-17; 8:45 am]

BILLING CODE 3510-WH-P